ENVIRONMENTAL PROTECTION AGENCY

[ER-6676-3]

Environmental Impacts Statements; Notice of Availability

Responsible Agency: Office of Federal Activities, General Information (202) 564-7167 or http://www.epa.gov/compliance/nepa/.

Weekly receipt of Environmental Impact Statements

Filed June 5, 2006 Through June 9, 2006

Pursuant to 40 CFR 1506.9.

EIS No. 20060236, Draft Supplement, AFS, ID, Hidden Cedar Project, Updated Information, Manage Vegetation Conditions and the Transportation System, Idaho Panhandle National Forests, St. Joe Ranger District, Benewah, Latah and Shoshone Counties, ID , Comment Period Ends: July 31, 2006, Contact: Peter Ratcliffe 208-245-2531.

EIS No. 20060237, Draft EIS, AFS, AK, Traitors Cove Timber Sale Project, Timber Harvest and Road Construction, Implementation, Revillagigedo Island, Ketchikan-Misty Fiords Ranger District, Tongrass National Forest, AK, Comment Period Ends: July 31, 2006, Contact: Rob Reeck 907-228-4114.

EIS No. 20060238, Draft EIS, NRS, 00, West Tarkio Creek Watershed Plan, Construction of a Multiple-Purpose Structure for Rural Water Supply, Recreational Opportunities and Agricultural Pollution Control, Page, Montgomery and Fremont Counties, IA and Atchison County, MO, Comment Period Ends: July 31, 2006, Contact: David Beck 515-284-4135.

EIS No. 20060239, Draft EIS, NPS, WA, Olympic National Park General Management Plan, Implementation, Clallam, Grays Harbor, Jefferson and Mason Counties, WA, Comment Period Ends: September 15, 2006, Contact: Nancy Hendricks 360-565-3008.

EIS No. 20060240, Final Supplement, AFS, ID, West Gold Creek Project, Updated Information, Forest Management Activities Plan, Implementation, Idaho Panhandle National Forests, Sandpoints Ranger District, Bonner County, ID, Wait Period Ends: July 17, 2006, Contact: Albert Helgengerg 208-265-6643.

EIS No. 20060241, Draft EIS, AFS, WA, Olympic National Forest, Beyond Prevention: Site-Specific Invasive Plant Treatment Project, Implementation, Clallam, Grays Harbor, Jefferson and Mason Counties, WA, Comment Period Ends: July 31, 2006, Contact: Joan Ziegltrum 360-956-2320.

EIS No. 20060242, Draft EIS, FHW, WI, Tier 1—DEIS—United States Highway 8 Project, Construction from Wis 35 (N) to USH 53, Funding and Right-of-Way Permit, Polk and Barron Counties, WI, Comment Period Ends: August 11, 2006, Contact: Peter M. Garcia 608-829-7513.

EIS No. 20060243, Final Supplement, FHW, 00, MN-36/WI-64 St. Croix River Crossing Project, Construction a new Crossing between the Cities of Stillwater and Oak Park Heights, Washington County, MN and the town of St. Joseph in St. Croix County, WI, Wait Period Ends: July 17, 2006, Contact: Cheryl Martin 651-291-6120.

EIS No. 20060244, Final EIS, IBR, CA, San Luis Drainage Feature Re-evaluation Project, Provide Agricultural Drainage Service to the San Luis Unit, Several Counties, CA, Wait Period Ends: July 17, 2006, Contact: Gerald Robbins 916-978-5061.

EIS No. 20060245, Draft EIS, FHW, SC, Interstate 73 Southern Project, Construction from I-95 to the Myrtle Beach Region, Funding, NPDES Permit, U.S. Coast Guard Permit, U.S. Army COE Section 404 Permit, Dillon, Horry and Marion Counties, SC, Comment Period Ends: July 31, 2006, Contact: Patrick L. Tyndall 803-765-5460.

EIS No. 20060246, Draft EIS, NRC, NJ, Generic—License Renewal of Nuclear Plants (GEIS) Regarding Oyster Creek Nuclear Generating Station Supplement 28 to NUREG-1437, Located adjacent to Barnegat Bay, Lacy and Ocean Townships, Ocean County, NJ, Comment Period Ends: September 8, 2006, Contact: M. Masnick 301-415-1191.

EIS No. 20060247, Draft Supplement, FTA, FL, Miami North Corridor Project, Updated Information, Transit Improvement between NW 62 Street at Dr. Martin Luther King Jr. Station and NW 215th Street at the Dade/Broward Counties Line, Funding, Dade County, FL, Comment Period Ends: July 31, 2006, Contact: Mayra Diaz 305-375-4623.

EIS No. 20060248, Draft EIS, NRS, KY, Rockhouse Creek Watershed Plan, To Protect Residential and Non-residential Structures from Recurrent Flood Problem, Leslie County, KY, Comment Period Ends: July 31, 2006, Contact: David Sawyer 859-224-7399.

EIS No. 20060249, Draft Supplement, FRC, 00, Northeast (NE)-07 Project, Construction and Operation a Natural Gas Pipeline Facilities, Millennium Pipeline Project—Phase I, U.S. Army COE Section 10 and 404 Permits, several counties, NY, Morris County, NJ and Fairfield and New Haven Counties, CT, Comment Period Ends: July 31, 2006, Contact: Todd Sedmak 1-866-208-3372.

EIS No. 20060250, Final EIS, FHW, NC, Greensboro-High Point Road (NC-1486-NC-4121) Improvements from U.S. 311 (I-74) to Hilltop Road (NC-1424), Funding, Cities of Greensboro and High Point, Town of Jamestown, Guilford County, NC, Wait Period Ends: July 17, 2006, Contact: Jennifer Fuller 919-733-7842 Ext 244.

EIS No. 20060251, Final EIS, USA, AK, U.S. Army Alaska Battle Area Complex (BAX) and a Combined Arms Collective Training Facility (CACTF), Construction and Operation, Selected the Preferred Alternative, within U.S. Army Training Lands in Alaska, Wait Period Ends: July 17, 2006, Contact: Kevin Gardner 907-384-3331.

EIS No. 20060252, Final EIS, AFS, CA, Brown Project, Proposal to Improve Forest Health by Reducing Overcrowded Forest Stand Conditions, Trinity River Management Unit, Shasta-Trinity National Forest, Weaverville Ranger District, Trinity County, CA, Wait Period Ends: July 17, 2006, Contact: Ralph Phipps 530-226-2421.

Amended Notices

EIS No. 20060229, Revised Draft EIS, FHW, TX, Grand Parkway (State Highway 99) Updated Information, Segment F-2 from SH 249 to IH 45, Right-of-Way Permit and U.S. Army COE Section 404 Permit, Harris County, TX, Comment Period Ends: September 7, 2006, Contact: Gary N. Johnson 512-536-5964. Revision of Notice Published in FR June 9, 2006: Correction to the Title and Comment Period.

EIS No. 20060230, Draft Supplement, BLM, UT, Price Field Resource Management Plan, Supplemental Information and Analysis, Areas of Critical Environmental Concerns, Implementation, Carbon and Emery Counties, UT, Comment Period Ends: September 8, 2006, Contact: Floyd Johnson 435-636-3600 Revision of Notice Published in FR June 9, 2006: Correction to Comment Period from July 24, 2006 to September 8, 2006.

Dated: June 13, 2006.
Robert W. Hargrove,
Director, NEPA Compliance Division, Office of Federal Activities.

[FR Doc. E6-9460 Filed 6-15-06; 8:45 am]

BILLING CODE 6560-50-P